DEPARTMENT OF THE INTERIOR

Bureau of Land Management

[CO-923-1430-ET; COC 0125423]

Public Land Order No. 7714; Modification of Public Land Order No. 3982; Colorado

AGENCY: Bureau of Land Management, Interior.

ACTION: Public Land Order.

SUMMARY: This order modifies Public Land Order No. 3982, which withdrew public land for protection of recreation values and road relocation purposes, to allow for disposal of a 0.76 acre parcel. This order opens the land to sale only.

DATES: Effective Date: August 25, 2008.

FOR FURTHER INFORMATION CONTACT: John D. Beck, BLM Colorado State Office, 2850 Youngfield Street, Lakewood, Colorado 80215-7093, 303-239-3882.

SUPPLEMENTARY INFORMATION: As a result of a land survey error, a private party has built a dwelling on the 0.76 acre parcel and the Bureau of Land Management plans to sell the land to resolve the inadvertent trespass.

Order

By virtue of the authority vested in the Secretary of the Interior by Section 204 of the Federal Land Policy and Management Act of 1976, 43 U.S.C. 1714 (2000), it is ordered as follows:

1. Public Land Order No. 3982 (31 FR 5898, April 16, 1966), which withdrew public land for protection of public recreation values and road relocation purposes, is hereby modified to allow for disposal of the following described land in accordance with Section 203 of the Federal Land Policy and Management Act of October 21, 1976, as amended, 43 U.S.C. 1713 (2000).

New Mexico Principal Meridian

T. 44 N., R. 5 W.,

Tract 37.

The area described consists of a 0.76 acre parcel in Hinsdale County.

2. At 10 a.m. on August 25, 2008, the land described in Paragraph 1 shall be opened to sale in accordance with Section 203 of the Federal Land Policy and Management Act of 1976, 43 U.S.C. 1713 (2000).

Dated: July 9, 2008.
C. Stephen Allred,
Assistant Secretary—Land and Minerals Management.

[FR Doc. E8-16819 Filed 7-23-08; 8:45 am]

BILLING CODE 4310-JB-P